DEPARTMENT OF HEALTH AND HUMAN SERVICES

[Document Identifier: 0945-0002]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before November 3, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041. When submitting comments or requesting information, please include the document identifier 0945-0002-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Civil Rights and Conscience Complaint and Health Information Privacy & Security Complaint.

Type of Collection: Extension.

OMB No.: 0945-0002.

Abstract

The Office for Civil Rights (OCR) is requesting an extension of the previously approved collection 0945-0002 that is expiring in November 2022, titled: Civil Rights and Conscience Complaint and Health Information Privacy & Security Complaint.

This request revises the: Civil Rights and Conscience Complaint and Health Information Privacy & Security Complaint as currently approved and will remain in compliance with the Paperwork Reduction Act. We are requesting a 3year extension.

Type of respondent; Individuals or households, Not-for-profit institutions and Individuals or households annually.

Estimated Annualized Burden Table
Written forms/electronic forms | Type of respondent | Number of respondents | Number of responses per respondent | Average burden hours per response | Total burden hours
Civil Rights/Conscience Discrimination Complaint | Individuals or households, Not-for-profit institutions | 15,446 | 1 | 45/60 | 11,585
Health Information Privacy Complaint | Individuals or households, Not-for-profit institutions | 30,392 | 1 | 45/60 | 22,794
Total |  | 45,838 |  | 45/60 | 34,379

Sherrette A. Funn,
Paperwork Reduction Act Reports Clearance Officer, Office of the Secretary.

[FR Doc. 2022-21455 Filed 10-3-22; 8:45 am]

BILLING CODE 4153-01-P